DEPARTMENT OF ENERGY

Federal Energy Regulatory Commission

Combined Notice of Filings #2

Take notice that the Commission received the following electric rate filings:

Docket Numbers: ER11-1881-007; ER11-1894-007; ER11-1893-007; ER11-1892-007; ER11-1890-007; ER11-1889-007; ER11-1887-007; ER11-1886-007; ER11-1885-007; ER11-1883-007; ER11-1882-007.

Applicants: Burley Butte Wind Park, LLC, Golden Valley Wind Park, LLC, Milner Dam Wind Park, LLC, Oregon Trail Wind Park, LLC, Pilgrim Stage Station Wind Park, LLC, Thousand Springs Wind Park, LLC, Tuana Gulch Wind Park, LLC, Camp Reed Wind Park, LLC, Payne's Ferry Wind Park, LLC, Salmon Falls Wind Park, LLC, Yahoo Creek Wind Park, LLC.

Description: Supplement to August 7, 2015 Notice of Non-Material Change in Status of the IWP Sellers.

Filed Date: 12/21/15.

Accession Number: 20151221-5141.

Comments Due: 5 p.m. ET 1/11/16.

Docket Numbers: ER15-1883-002; ER16-91-002; ER16-90-001; ER15-2477-001; ER15-1418-002; ER15-1375-002; ER15-1016-002; ER13-2112-004; ER13-1992-006; ER13-1991-006; ER12-631-009; ER12-2444-008; ER11-4678-009; ER11-4677-009; ER11-4462-014; ER11-2160-008; ER10-1989-008; ER10-1971-023; ER10-1962-008; ER10-1890-008 ER10-1856-008; ER10-1847-008.

Applicants: Adelanto Solar, LLC, Adelanto Solar II, LLC, Blythe Solar 110, LLC, Desert Sunlight 250, LLC, Desert Sunlight 300, LLC, Diablo Winds, LLC, FPL Energy Cabazon Wind, LLC, FPL Energy Green Power Wind, LLC, FPL Energy Montezuma Wind, LLC, Genesis Solar, LLC, Golden Hills Wind, LLC, Golden Hills Interconnection, LLC, High Winds, LLC, McCoy Solar, LLC, NEPM II, LLC, NextEra Energy Montezuma II Wind, LLC, NextEra Energy Power Marketing, LLC, North Sky River Energy, LLC, Shafter Solar, LLC, Sky River LLC, Vasco Winds, LLC, Windpower Partners 1993, LLC

Description: Notification of Change in Status of the NextEra Resources Entities.

Filed Date: 12/18/15.

Accession Number: 20151218-5311.

Comments Due: 5 p.m. ET 1/8/16.

Docket Numbers: ER16-149-001.

Applicants: Midcontinent Independent System Operator, Inc.

Description: Tariff Amendment: 2015-12-21_SA 2854 MDU-MDU Amended FCA (F109) to be effective 10/28/2015.

Filed Date: 12/21/15.

Accession Number: 20151221-5162.

Comments Due: 5 p.m. ET 1/11/16.

Docket Numbers: ER16-587-000.

Applicants: PJM Interconnection, L.L.C.

Description: § 205(d) Rate Filing: Original WMPA SA No. 4324, Queue No. Z2-115 to be effective 12/8/2015.

Filed Date: 12/21/15.

Accession Number: 20151221-5091.

Comments Due: 5 p.m. ET 1/11/16.

Docket Numbers: ER16-588-000.

Applicants: PJM Interconnection, L.L.C.

Description: § 205(d) Rate Filing: Service Agreement No. 2975; Queue No. W1-082 to be effective 12/2/2015.

Filed Date: 12/21/15.

Accession Number: 20151221-5092.

Comments Due: 5 p.m. ET 1/11/16.

Docket Numbers: ER16-589-000.

Applicants: PJM Interconnection, L.L.C.

Description: § 205(d) Rate Filing: Amendment to Florence Solar WMPA SA No. 3482, Queue No. W3-080 to be effective 5/8/2014.

Filed Date: 12/21/15.

Accession Number: 20151221-5104.

Comments Due: 5 p.m. ET 1/11/16.

Docket Numbers: ER16-590-000.

Applicants: PJM Interconnection, L.L.C.

Description: Tariff Cancellation: Notice of Cancellation of WMPA SA No. 3248, Queue No. W2-083 to be effective 2/5/2016.

Filed Date: 12/21/15.

Accession Number: 20151221-5110.

Comments Due: 5 p.m. ET 1/11/16.

Docket Numbers: ER16-591-000.

Applicants: PJM Interconnection, L.L.C.

Description: Tariff Cancellation: Notice of Cancellation of WMPA SA No. 3249, Queue No. W2-088 to be effective 2/5/2016.

Filed Date: 12/21/15.

Accession Number: 20151221-5133.

Comments Due: 5 p.m. ET 1/11/16.

Docket Numbers: ER16-592-000.

Applicants: Wisconsin Electric Power Company.

Description: Application of Wisconsin Electric Power Company of Depreciation Study and Change in Depreciation Rates.

Filed Date: 12/18/15.

Accession Number: 20151218-5300.

Comments Due: 5 p.m. ET 1/8/16.

Docket Numbers: ER16-593-000.

Applicants: PJM Interconnection, L.L.C.

Description: Tariff Cancellation: Notice of Cancellation of WMPA SA No. 4159, Queue No. AA1-131 to be effective 2/8/2016.

Filed Date: 12/21/15.

Accession Number: 20151221-5135.

Comments Due: 5 p.m. ET 1/11/16.

Docket Numbers: ER16-594-000.

Applicants: PJM Interconnection, L.L.C.

Description: § 205(d) Rate Filing: Assignment of WMPA SA No. 3859, Queue No. Z1-082 to HD Project One, LLC to be effective 5/19/2014.

Filed Date: 12/21/15.

Accession Number: 20151221-5138.

Comments Due: 5 p.m. ET 1/11/16.

Docket Numbers: ER16-595-000.

Applicants: Midcontinent Independent System Operator, Inc., Ameren Illinois Company.

Description: § 205(d) Rate Filing: 2015-12-21_SA 2879 Ameren Illinois-Wabash Valley Power Association WCA to be effective 12/16/2015.

Filed Date: 12/21/15.

Accession Number: 20151221-5139.

Comments Due: 5 p.m. ET 1/11/16.

Docket Numbers: ER16-596-000.

Applicants: Midcontinent Independent System Operator, Inc. Ameren Illinois Company.

Description: § 205(d) Rate Filing: 2015-12-21_SA 2880 Ameren Illinois-Wabash Valley Power Association UCA to be effective 12/16/2015.

Filed Date: 12/21/15.

Accession Number: 20151221-5142.

Comments Due: 5 p.m. ET 1/11/16.

Docket Numbers: ER16-597-000.

Applicants: PJM Interconnection, L.L.C.

Description: Tariff Cancellation: Notice of Cancellation of WMPA SA No. 3201, Queue No. W3-076 to be effective 2/5/2016.

Filed Date: 12/21/15.

Accession Number: 20151221-5143.

Comments Due: 5 p.m. ET 1/11/16.

Docket Numbers: ER16-598-000.

Applicants: Louisville Gas and Electric Company.

Description: § 205(d) Rate Filing: 12_21_2015 EKPC NITSA Amendment to be effective 12/29/2015.

Filed Date: 12/21/15.

Accession Number: 20151221-5184.

Comments Due: 5 p.m. ET 1/11/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 21, 2015.
Nathaniel J. Davis, Sr.,
Deputy Secretary.

[FR Doc. 2015-32569 Filed 12-24-15; 8:45 am]

BILLING CODE 6717-01-P